ENVIRONMENTAL PROTECTION AGENCY

40 CFR Part 52

[EPA-R09-OAR-2018-0160; FRL-9977-85—Region 9]

Air Plan Approval; California; Yolo-Solano Air Quality Management District; Negative Declarations

AGENCY: Environmental Protection Agency (EPA).

ACTION: Proposed rule.

SUMMARY: The Environmental Protection Agency (EPA) is proposing to approve a revision to the Yolo-Solano Air Quality Management District (YSAQMD or “District”) portion of the California State Implementation Plan (SIP). This revision concerns the District's negative declarations for several volatile organic compound (VOC) source categories included in its Reasonably Available Control Technology (RACT) State Implementation Plan Analysis. We are proposing to approve these negative declarations under the Clean Air Act (CAA or “the Act”). We are taking comments on this proposal and plan to follow with a final action.

DATES: Any comments must arrive by June 8, 2018.

ADDRESSES: Submit your comments, identified by Docket ID No. EPA-R09-OAR-2018-0160 at https://www.regulations.gov/, or via email to Stanley Tong, at tong.stanley@epa.gov. For comments submitted at Regulations.gov, follow the online instructions for submitting comments. Once submitted, comments cannot be removed or edited from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets.

FOR FURTHER INFORMATION CONTACT: Stanley Tong, EPA Region IX, (415) 947-4122, tong.stanley@epa.gov.

SUPPLEMENTARY INFORMATION: Throughout this document, “we,” “us” and “our” refer to the EPA.

Table of Contents

I. The State's Submittal

A. What document did the State submit?

B. Are there other versions of the RACT SIP—negative declarations?

C. What is the purpose of the submitted negative declarations?

II. The EPA's Evaluation and Action

A. How did the EPA evaluate the negative declarations and what conclusions did the EPA reach?

B. Public Comment and Proposed Action

III. Statutory and Executive Order Reviews

I. The State's Submittal

A. What document did the State submit?

On September 13, 2017, YSAQMD adopted its Reasonably Available Control Technology State Implementation Plan Analysis for the 2008 ozone National Ambient Air Quality Standards (NAAQS). Included in the District's RACT SIP analysis were several negative declarations where the District stated that it did not have sources subject to the Control Techniques Guidelines (CTG) documents listed below in Table 1. The District's RACT SIP further stated that the negative declarations were for the 1997 and 2008 ozone NAAQS. On November 13, 2017, the California Air Resources Board (CARB) submitted YSAQMD's RACT SIP, including the following negative declarations, to the EPA as a SIP revision.

¹ Negative declarations are for the 1997 and 2008 8-hour ozone standards.

Table 1—Submitted Negative Declarations ¹
CTG document | CTG document title
EPA-450/2-77-008 | Control of Volatile Organic Emissions from Existing Stationary Sources—Volume II: Surface Coating of Cans, Coils, Paper, Fabrics, Automobiles, and Light-Duty Trucks.
EPA-450/2-77-025 | Control of Refinery Vacuum Producing Systems, Wastewater Separators, and Process Unit Turnarounds.
EPA-450/2-77-032 | Control of Volatile Organic Emissions from Existing Stationary Sources—Volume III: Surface Coating of Metal Furniture.
EPA-450/2-77-033 | Control of Volatile Organic Emissions from Existing Stationary Sources—Volume IV: Surface Coating of Insulation of Magnet Wire.
EPA-450/2-77-034 | Control of Volatile Organic Emissions from Existing Stationary Sources—Volume V: Surface Coating of Large Appliances.
EPA-450/2-77-036 | Control of Volatile Organic Emissions from Storage of Petroleum Liquids in Fixed-Roof Tanks.
EPA-450/2-78-029 | Control of Volatile Organic Emissions from Manufacture of Synthesized Pharmaceutical Products.
EPA-450/2-78-032 | Control of Volatile Organic Emissions from Existing Stationary Sources—Volume VII: Factory Surface Coating of Flat Wood Paneling.
EPA-450/2-78-033 | Control of Volatile Organic Emissions from Existing Stationary Sources—Volume VIII: Graphic Arts-Rotogravure and Flexography.
EPA-450/2-78-036 | Control of Volatile Organic Compound Leaks from Petroleum Refinery Equipment.
EPA-450/2-78-030 | Control of Volatile Organic Emissions from Manufacture of Pneumatic Rubber Tires.
EPA-450/3-82-009 | Control of Volatile Organic Compound Emissions from Large Petroleum Dry Cleaners.
EPA-450/3-83-008 | Control of Volatile Organic Compound Emissions from Manufacture of High-Density Polyethylene, Polypropylene, and Polystyrene Resins.
EPA-450/3-83-007 | Control of Volatile Organic Compound Equipment Leaks from Natural Gas/Gasoline Processing Plants.
EPA-450/3-83-006 | Control of Volatile Organic Compound Leaks from Synthetic Organic Chemical Polymer and Resin Manufacturing Equipment.
EPA-450/3-84-015 | Control of Volatile Organic Compound Emissions from Air Oxidation Processes in Synthetic Organic Chemical Manufacturing Industry.
EPA-450/4-91-031 | Control of Volatile Organic Compound Emissions from Reactor Processes and Distillation Operations in Synthetic Organic Chemical Manufacturing Industry.
EPA-453/R-96-007 | Control of Volatile Organic Compound Emissions from Wood Furniture Manufacturing Operations.
61 FR-44050 8/27/96 | Control Techniques Guidelines for Shipbuilding and Ship Repair Operations (Surface Coating).
EPA-453/R-97-004 | Aerospace (CTG & MACT).
EPA-453/R-06-003 | Control Techniques Guidelines for Flexible Package Printing.
EPA-453/R-06-004 | Control Techniques Guidelines for Flat Wood Paneling Coatings.
EPA 453/R-07-003 | Control Techniques Guidelines for Paper, Film, and Foil Coatings.
EPA 453/R-07-004 | Control Techniques Guidelines for Large Appliance Coatings.
EPA 453/R-07-005 | Control Techniques Guidelines for Metal Furniture Coatings.
EPA 453/R-08-005 | Control Techniques Guidelines for Miscellaneous Industrial Adhesives.
EPA 453/R-08-006 | Control Techniques Guidelines for Automobile and Light-Duty Truck Assembly Coatings.
EPA 453/R-08-003 | Control Techniques Guidelines for Miscellaneous Metal and Plastic Parts Coatings (plastic parts portion only).
EPA 453/B-16-001 | Control Techniques Guidelines for the Oil and Natural Gas Industry.

On April 11, 2018, the EPA determined that the negative declarations submitted as part of YSAQMD's RACT SIP met the completeness criteria in 40 CFR part 51 Appendix V, which must be met before formal EPA review.

B. Are there other versions of the RACT SIP—negative declarations?

On April 6, 2018 (83 FR 14754), we approved YSAQMD's RACT SIP certification, including several negative declarations for the 1997 8-hour ozone NAAQS.

C. What is the purpose of the submitted negative declarations?

Volatile Organic Compounds (VOCs) and nitrogen oxides (NOX) together produce ground-level ozone, smog and particulate matter, which harm human health and the environment. Section 110(a) of the CAA requires states to submit regulations that control VOC and NOX emissions. Sections 182(b)(2) and (f) require that SIPs for ozone nonattainment areas classified as Moderate or above implement RACT for any source covered by a CTG document and for any major source of VOCs or NOX. The YSAQMD is subject to this requirement because it regulates part of the Sacramento Metropolitan ozone nonattainment area that is classified as a Severe-15 ozone nonattainment area for the 2008 8-hour ozone NAAQS.² Therefore, the YSAQMD must, at a minimum, adopt RACT-level controls for all sources covered by a CTG document and for all major non-CTG sources of VOCs or NOX within the nonattainment area that it regulates.

² 40 CFR 81.305; 80 FR 12264 (March 6, 2015). The YSAQMD regulates the Solano County and Yolo County portions of the Sacramento Metro ozone nonattainment area.

The EPA's rule to implement the 2008 8-hour ozone NAAQS (80 FR 12264 at 12278, March 6, 2015) states in part “. . . RACT SIPs must contain adopted RACT regulations, certifications where appropriate that existing provisions are RACT . . . and/or negative declarations that there are no sources in the nonattainment area covered by a specific CTG source category.” YSAQMD's RACT SIP submittal includes the negative declarations listed in Table 1 to certify that it has no stationary sources within its jurisdiction that are covered by the listed CTGs.

II. The EPA's Evaluation and Action

A. How did the EPA evaluate the negative declarations and what conclusions did the EPA reach?

SIP rules must require RACT for each category of sources covered by a CTG document as well as each major source of VOC or NOX in ozone nonattainment areas classified as Moderate or above (see CAA section 182(b)(2)). States should submit for SIP approval negative declarations for those source categories for which they are not adopting VOC CTG-based regulations (because they have no sources covered by the CTG) regardless of whether such negative declarations were made for an earlier RACT SIP.

The EPA reviewed YSAQMD's list of negative declarations and compared the District's list against a list of stationary sources of VOCs derived from CARB's emissions inventory database for the years 2006 and 2015. The EPA selected these years based on when the RACT SIPs were due for the 1997 and 2008 8-hour ozone standards. Since the CTGs only cover VOC sources and do not cover NOX sources, we took CARB's emissions inventory list of VOC stationary sources in the YSAQMD and identified those with a sufficient quantity of VOC emissions that they could potentially be covered by a CTG. We then performed an internet search on these sources to determine if they performed operations subject to any of the CTGs for which YSAQMD was claiming a negative declaration. Our evaluation also included a review of whether identified stationary sources' Standard Industrial Code classification numbers corresponded to negative declarations claimed by the District. Finally, we queried YSAQMD staff regarding what VOC producing operations occurred at specific stationary source facilities to determine if any of those operations might be subject to a negative declaration. Based on this, the EPA agrees with YSAQMD's conclusion that it has no stationary sources of VOCs that are subject to the CTGs for which they have adopted negative declarations for the 1997 and 2008 8-hour ozone NAAQS. We believe these negative declarations are consistent with the relevant policy and guidance regarding RACT and SIP relaxations.

B. Public Comment and Proposed Action

As authorized in section 110(k)(3) of the Act, the EPA proposes to fully approve the submitted negative declarations for the 1997 and 2008 8-hour ozone NAAQS because they fulfill all relevant requirements. We will accept comments from the public on this proposal until June 8, 2018. If we take final action to approve the submitted negative declarations, our final action will incorporate them into the federally enforceable SIP.

III. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: April 27, 2018.
Alexis Strauss,
Acting Regional Administrator, Region IX.

[FR Doc. 2018-09888 Filed 5-8-18; 8:45 am]

BILLING CODE 6560-50-P